DEPARTMENT OF HEALTH AND HUMAN SERVICES

Health Resources and Services Administration

National Advisory Council on Migrant Health; Notice of Meeting

In accordance with section 10(a)(2) of the Federal Advisory Committee Act (Pub. L. 92-463), notice is hereby given of the following meeting:

Name: National Advisory Council on Migrant Health.

Date and Time: October 17, 2005, 1 p.m. to 4 p.m. (Eastern Time).

Place: Audio Conference Call, Phone: 1-866-727-1333, Password: 7822925.

Status: The meeting will be open to the public.

Agenda: The agenda includes an overview of the Council's general business activities, discussion of the Amended Charter and future activities of the Council.

Agenda items are subject to change as priorities indicate.

FOR FURTHER INFORMATION CONTACT: Anyone requiring information regarding the Council should contact Gladys Cate, Office of Minority and Special Populations, staff support to the National Advisory Council on Migrant Health, Bureau of Primary Health Care, Health Resources and Services Administration, 5600 Fishers Lane, Rockville, Maryland 20857, Telephone (301) 594-0367.

Dated: September 29, 2005.
Tina M. Cheatham,
Director, Division of Policy Review and Coordination.

[FR Doc. 05-19867 Filed 10-3-05; 8:45 am]

BILLING CODE 4165-15-P